NUCLEAR REGULATORY COMMISSION

[Docket No. 03001317]

Notice of Availability of Environmental Assessment and Finding of No Significant Impact for License Amendment for Department of the Army, Walter Reed Army Medical Center Washington, DC

AGENCY: Nuclear Regulatory Commission.

ACTION: Notice of availability of environmental assessment and finding of no significant impact.

FOR FURTHER INFORMATION CONTACT: Laurie Kauffman, Decommissioning Branch, Division of Nuclear Materials Safety, Region I, 475 Allendale Road, King of Prussia, Pennsylvania 19406, telephone (610) 337-5323, fax (610) 337-5269; or by e-mail: lap@nrc.gov.

SUPPLEMENTARY INFORMATION:

I. Introduction

The Nuclear Regulatory Commission (NRC) is considering the issuance of a license amendment to Department of the Army, Walter Reed Army Medical Center (WRAMC) for Materials License No. 08-01738-02, to authorize release of Building T-2 of the Washington, DC site for unrestricted use. NRC has prepared an Environmental Assessment (EA) in support of this action in accordance with the requirements of 10 CFR part 51. Based on the EA, the NRC has concluded that a Finding of No Significant Impact (FONSI) is appropriate. The amendment will be issued following the publication of this Notice.

II. EA Summary

The purpose of the action is to authorize the release of the licensee's Building T-2 of the Washington, DC facility for unrestricted use. WRAMC was authorized by the U.S. Atomic Energy Commission (AEC) on February 18, 1959 to use radioactive materials for medical research, diagnosis, and therapy purposes at the site. On October 29, 2004, WRAMC requested that the NRC release the facility for unrestricted use. WRAMC has conducted surveys of the facility and provided information to the NRC to demonstrate that the site meets the license termination criteria in 10 CFR part 20, subpart E, for unrestricted use.

The NRC staff has prepared an EA in support of the license amendment. The facility was remediated and surveyed in support of the license amendment. The NRC staff has reviewed the information and final status survey submitted by WRAMC. Based on its review, the staff has determined that there are no additional remediation activities necessary to complete the proposed action. Therefore, the staff considered the impact of the residual radioactivity at the facility and concluded that since the residual radioactivity meets the requirements in 10 CFR part 20, subpart E, a Finding of No Significant Impact is appropriate.

III. Finding of No Significant Impact

The staff has prepared the EA (summarized above) in support of the license amendment to release Building T-2 in its entirety of the WRAMC facility at 6900 Georgia Avenue, NW., Washington, DC for unrestricted use. The NRC staff has evaluated WRAMC's request and the results of the surveys and has concluded that the completed action complies with the criteria in 10 CFR part 20, subpart E. The staff has found that the environmental impacts from the action are bounded by the impacts evaluated by NUREG-1496, Volumes 1-3, “Generic Environmental Impact Statement in Support of Rulemaking on Radiological Criteria for License Termination of NRC-Licensed Facilities” (ML042310492, ML042320379, and ML042330385). On the basis of the EA, the NRC has concluded that the environmental impacts from the action are expected to be insignificant and has determined not to prepare an environmental impact statement for the action.

IV. Further Information

Documents related to this action, including the application for the license amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this Notice are: Environmental Assessment (ADAMS Accession No. ML050460068); Amendment Request for WRAMC Building T-2 (ADAMS Accession No. ML043220447); Historical Site Assessment for WRAMC Building T-2 (ADAMS Accession No. ML043220460); and Final Status Survey for WRAMC Building T-2 (ADAMS Accession No. ML043220467). Persons who do not have access to ADAMS or who encounter problems in accessing the documents located in ADAMS, should contact the NRC PDR Reference staff by telephone at (800) 397-4209 or (301) 415-4737, or by e-mail to pdr@nrc.gov.

Please note that on October 25, 2004, the NRC terminated public access to ADAMS and initiated an additional security review of publicly available documents to ensure that potentially sensitive information is removed from the ADAMS database accessible through the NRC's Web site. Interested members of the public may obtain copies of the referenced documents for review and/or copying by contacting the Public Document Room pending resumption of public access to ADAMS. The NRC Public Document Room is located at NRC Headquarters in Rockville, MD, and can be contacted at (800) 397-4209, (301) 415-4737 or by e-mail to pdr@nrc.gov.

Dated in King of Prussia, Pennsylvania this 15th day of February, 2005.
For the Nuclear Regulatory Commission.
Ronald R. Bellamy,
Chief, Decommissioning Branch, Division of Nuclear Materials Safety, Region I.

[FR Doc. 05-3402 Filed 2-22-05; 8:45 am]

BILLING CODE 7590-01-P